RAILROAD RETIREMENT BOARD

Sunshine Act; Notice of Public Meeting

Notice is hereby given that the Railroad Retirement Board will hold a meeting on November 3, 2015, 10:00 a.m. at the Board's meeting room on the 8th floor of its headquarters building, 844 North Rush Street, Chicago, Illinois 60611. The agenda for this meeting follows:

Portion open to the public:

(1) Executive Committee Reports

(2) Use of Medical Specialists in the Disability Application Process

The person to contact for more information is Martha P. Rico, Secretary to the Board, Phone No. 312-751-4920.

Dated: October 16, 2015.
Martha P. Rico,
Secretary to the Board.

[FR Doc. 2015-26901 Filed 10-19-15; 4:15 pm]

BILLING CODE 7905-01-P